DEPARTMENT OF THE TREASURY

Internal Revenue Service

26 CFR Part 1

[TD 9186]

RIN 1545-BD42

Qualified Amended Returns; Correction

AGENCY: Internal Revenue Service (IRS), Treasury.

ACTION: Correction to temporary regulations.

SUMMARY: This document contains corrections to temporary regulations (TD 9186) which were published in the Federal Register on Wednesday, March 2, 2005 (70 FR 10037). The temporary regulations modify the rules relating to qualified amended returns by providing additional circumstances that end the period within which a taxpayer may file an amended return that constitutes a qualified amended return.

DATES: This correction is effective March 2, 2005.

FOR FURTHER INFORMATION CONTACT: Nancy M. Galib, (202) 622-4940 (not a toll-free number).

SUPPLEMENTARY INFORMATION:

Background

The temporary regulations (TD 9186) that are the subject of these corrections are under section 6227 of the Internal Revenue Code.

Need for Correction

As published, TD 9186 contains errors that may prove to be misleading and are in need of clarification.

Correction of Publication

Accordingly, the publication of the temporary regulations (TD 9186), that were the subject of FR Doc. 05-3950, is corrected as follows:

1. On page 10038, column 2, in the preamble under the paragraph heading “Background”, first full paragraph, line 14, the language, “announced in Notice 2004-38, 2004-24” is corrected to read “announced in Notice 2004-38, 2004-21”.

2. On page 10039, column 1, in the preamble under the paragraph heading “Effect on Other Documents”, first line, the language, “Notice 2004-38 (2004-24 I.R.B. 949)” is corrected to read “Notice 2004-38 (2004-21 I.R.B. 949)”.

Cynthia E. Grigsby,
Acting Chief, Publications and Regulations Branch, Legal Processing Division, Associate Chief Counsel, (Procedure and Administration).

[FR Doc. 05-12386 Filed 6-22-05; 8:45 am]

BILLING CODE 4830-01-P